DEPARTMENT OF THE INTERIOR

National Park Service

[N6587; NPS-WASO-NAGPRA-NPS0041296; PPWOCRADN0-PCU00RP14.R50000]

Notice of Inventory Completion: The University of Alabama at Birmingham, Birmingham, AL

AGENCY: National Park Service, Interior.

ACTION: Notice.

SUMMARY: In accordance with the Native American Graves Protection and Repatriation Act (NAGPRA), the University of Alabama at Birmingham has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to Dr. Lauren Downs, the University of Alabama at Birmingham, Department of Anthropology, UH 3165 1720 2nd Avenue South, Birmingham, AL 35294, email nagprastaff@uab.edu.

SUPPLEMENTARY INFORMATION: This notice is published as part of the National Park Service's administrative responsibilities under NAGPRA. The determinations in this notice are the sole responsibility of the University of Alabama at Birmingham, and additional information on the determinations in this notice, including the results of consultation, can be found in its inventory or related records. The National Park Service is not responsible for the determinations in this notice.

Abstract of Information Available

Human remains representing, at least, one individual have been identified. The 27 associated funerary objects are 12 pottery sherds, 11 chert lithic flakes, two flint projectile points, one chert lithic blade, and one gastropod shell. Site 1Ms471 is located in Marshall County, AL, near Paint Rock River. It included a village/camp area and five stone-covered mounds/graves. The site was excavated by Edward C. Mahan in 1956 prior to its destruction by the site owner. Mr. Mahan donated his site collection to the Department of Anthropology, the University of Alabama at Birmingham in 1981. The site was originally named “1Msᵛ5” by Mr. Mahan, but that is considered to be a synonym for 1Ms471. Internal site records describe the ancestor and associated belongings as a “bundle burial,” which was removed from an area adjacent to a mound at the site. Site use dates to the Paleoindian and Woodland periods. It is likely that the burial removed from the site dates to the Middle-Late Woodland Period (A.D. 1-1000) and perhaps to the Copena Culture of the Middle Woodland (A.D. 1-500). There is no record of potentially hazardous substances being used to treat the ancestor or associated belongings.

Cultural Affiliation

Based on the information available and the results of consultation, cultural affiliation is reasonably identified by the geographical location or acquisition history of the human remains and associated funerary objects described in this notice.

Determinations

The University of Alabama at Birmingham has determined that:

• The human remains described in this notice represent the physical remains of one individual of Native American ancestry.

• The 27 objects described in this notice are reasonably believed to have been placed intentionally with or near individual human remains at the time of death or later as part of the death rite or ceremony.

• There is a connection between the human remains and associated funerary objects described in this notice and the Alabama-Coushatta Tribe of Texas; Poarch Band of Creek Indians; Seminole Tribe of Florida; The Muscogee (Creek) Nation; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 18, 2025. If competing requests for repatriation are received, the University of Alabama at Birmingham must determine the most appropriate requestor prior to repatriation. Requests for joint repatriation of the human remains and associated funerary objects are considered a single request and not competing requests. The University of Alabama at Birmingham is responsible for sending a copy of this notice to the Indian Tribes and Native Hawaiian organizations identified in this notice and any other consulting parties.

Authority: Native American Graves Protection and Repatriation Act, 25 U.S.C. 3003, and the implementing regulations, 43 CFR 10.10.

Dated: September 30, 2025.
Melanie O'Brien,
Manager, National NAGPRA Program.

[FR Doc. 2025-20105 Filed 11-17-25; 8:45 am]

BILLING CODE 4312-52-P